FEDERAL COMMUNICATIONS COMMISSION

[Report No. 2706]

Petitions for Reconsideration of Action in Rulemaking Proceedings

May 3, 2005.

Petitions for Reconsideration have been filed in the Commission's Rulemaking proceedings listed in this Public Notice and published pursuant to 47 CFR Section 1.429(e). The full text of this document is available for viewing and copying in Room CY-B402, 445 12th Street, SW., Washington, DC or may be purchased from the Commission's copy contractor, Best Copy and Printing, Inc. (BCPI) (1-800-378-3160). Oppositions to these petitions must be filed by May 26, 2005. See Section 1.4(b)(1) of the Commission's rules (47 CFR 1.4(b)(1)). Replies to an opposition must be filed within 10 days after the time for filing oppositions have expired.

Subject: In the Matter of Carriage of Digital Television Broadcast Signals: Amendments to Part 76 of the Commission's Rules (CS Docket No. 98-120).

Number of Petitions Filed: 5.

Marlene H. Dortch,
Secretary.

[FR Doc. 05-9409 Filed 5-10-05; 8:45 am]

BILLING CODE 6712-01-M